DEPARTMENT OF TRANSPORTATION

Coast Guard

[USCG-2000-6942]

Commercial Fishing Safety Listening Sessions

AGENCY: Coast Guard, DOT.

ACTION: Notice of meeting; Change of location.

SUMMARY: The location of the Coast Guard Commercial Fishing Vessel Safety Action Plan Listening Session, on Saturday, May 20, 2000, from 10 a.m. to 2 p.m. has been changed. The meeting has been moved from the Italian American Club, 1903 Cabrillo Avenue, San Pedro, California to Canetti's Seafood Grotto, 309 East 22nd Street, San Pedro, California.

FOR FURTHER INFORMATION CONTACT: For questions on this notice, contact Lieutenant Jennifer Williams, or Ensign Chris O'Neal, telephone 202-267-2008, fax 202-267-0506.

SUPPLEMENTARY INFORMATION: Original notice of this meeting was published in the Federal Register, Volume 65, Number, March 16, 2000.

Dated: April 13, 2000.
R.C. North,
Rear Admiral, U.S. Coast Guard, Assistant Commandant for Marine Safety and Environmental Protection.

[FR Doc. 00-9936 Filed 4-19-00; 8:45 am]

BILLING CODE 4910-15-M